DEPARTMENT OF LABOR

Employment and Training Administration

[TA-W-61,065]

Freight Car America; a Subsidiary of Johnstown America Including On-Site Leased Workers of Sargent's Personnel Agency, Inc.; Johnstown, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 24, 2007, applicable to workers of Freight Car America, a subsidiary of Johnstown America, Johnstown, Pennsylvania. The notice was published in the Federal Register on May 9, 2007 (72 FR 26424).

At the request of the State agency, the Department reviewed the certification for workers of the subject firm. The workers are engaged in the production of freight (rail) cars and parts.

New information shows that leased workers of Sargent's Personnel Agency, Inc. were employed on-site at the Johnstown, Pennsylvania location of Freight Car America, a subsidiary of Johnstown America.

Based on these findings, the Department is amending this certification to include leased workers of Sargent's Personnel Agency, Inc. working on-site at Freight Car America, a subsidiary of Johnstown America, Johnstown, Pennsylvania.

The intent of the Department's certification is to include all workers employed at Freight Car America, a subsidiary of Johnstown America, Johnstown, Pennsylvania who were adversely affected by increased customer imports.

The amended notice applicable to TA-W-61,065 is hereby issued as follows:

“All workers of Freight Car America, a subsidiary of Johnstown America, including on-site leased workers of Sargent's Personnel Agency, Inc., Johnstown, Pennsylvania, who became totally or partially separated from employment on or after March 5, 2006 through April 24, 2009, are eligible to apply for adjustment assistance under Section 223 of the Trade Act of 1974, and are also eligible to apply for alternative trade adjustment assistance under Section 246 of the Trade Act of 1974.”

Signed at Washington, DC this 24th day of May 2007.
Linda G. Poole,
Certifying Officer, Division of Trade Adjustment Assistance.

[FR Doc. E7-10307 Filed 5-29-07; 8:45 am]

BILLING CODE 4510-FN-P